COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products to the Procurement List that will be furnished by nonprofit agencies employing persons who are blind or have other severe disabilities, and deletes products previously furnished by such agency.

DATES: Comments must be received on or before January 29, 2017.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN(s)—Product Name(s):

9905-00-NIB-0376—Flag, Marking, 2½″ x 3½″, 21″ Staff, Fluorescent Orange

9905-00-NIB-0377—Flag, Marking, 2½″ x 3½″, 21″ Staff, Fluorescent Pink

9905-00-NIB-0378—Flag, Marking, 2½″ x 3½″, 21″ Staff, Orange

9905-00-NIB-0379—Flag, Marking, 2½″ x 3½″, 21″ Staff, Red

9905-00-NIB-0380—Flag, Marking, 2½″ x 3½″, 21″ Staff, Yellow

9905-00-NIB-0384—Flag, Marking, 2½″ x 3½″, 15″ Staff, Yellow

9905-00-NIB-0386—Flag, Marking, 2½″ x 3½″, 15″ Staff, Red

9905-00-NIB-0387—Flag, Marking, 2½″ x 3½″, 15″ Staff, Orange

9905-00-NIB-0389—Flag, Marking, 4″ x 5″, 21″ Staff, Fluorescent Orange

9905-00-NIB-0390—Flag, Marking, 4″ x 5″, 21″ Staff, Fluorescent Pink

9905-00-NIB-0391—Flag, Marking, 4″ x 5″, 21″ Staff, Orange

9905-00-NIB-0392—Flag, Marking, 4″ x 5″, 21″ Staff, Red

9905-00-NIB-0393—Flag, Marking, 4″ x 5″, 21″ Staff, Yellow

Mandatory for: Total Government Requirement

Mandatory Source(s) of Supply: West Texas Lighthouse for the Blind, San Angelo, TX

Contracting Activity: General Services Administration, Fort Worth, TX

Distribution: B-List

NSN(s)—Product Name(s):

6530-00-NIB-0209—Hot Pack, Instant, Disposable, 6″ x 8″

6530-00-NIB-0217—Cold Pack, Instant, Disposable, 5″ x 6″

6530-00-NIB-0219—Cold Pack, Instant, Disposable, 5″ x 7″

6530-00-NIB-0221—Cold Pack, Instant, Disposable, 6″ x 8.75″

6530-00-NIB-0222—Hot Pack, Instant, Disposable, 5″ x 6″

6530-00-NIB-0223—Hot Pack, Instant, Disposable, 5″ x 7″

Mandatory Source(s) of Supply: Central Association for the Blind and Visually Impaired, Utica, NY

Mandatory for: Total Government Requirement

Contracting Activity: Defense Logistics Agency Troop Support

Distribution: B-List

Deletions

The following products are proposed for deletion from the Procurement List:

Products

NSN(s)—Product Name(s):

8410-01-415-2906—Slacks, Serge, Army, Women's, Green, 4MR

8410-01-415-2909—Slacks, Serge, Army, Women's, Green, 6WR

8410-01-415-2911—Slacks, Serge, Army, Women's, Green, 6MR

8410-01-415-5138—Slacks, Serge, Army, Women's, Green, 6MT

8410-01-415-5139—Slacks, Serge, Army, Women's, Green, 6WT

8410-01-415-5140—Slacks, Serge, Army, Women's, Green, 8WR

8410-01-415-5141—Slacks, Serge, Army, Women's, Green, 8MR

8410-01-415-5142—Slacks, Serge, Army, Women's, Green, 8WP

8410-01-415-5143—Slacks, Serge, Army, Women's, Green, 10MT

8410-01-415-5144—Slacks, Serge, Army, Women's, Green, 8MT

8410-01-415-5145—Slacks, Serge, Army, Women's, Green, 10JR

8410-01-415-6989—Slacks, Serge, Army, Women's, Green, 10WR

8410-01-415-6990—Slacks, Serge, Army, Women's, Green, 10MR

8410-01-415-6991—Slacks, Serge, Army, Women's, Green, 12MP

8410-01-415-6992—Slacks, Serge, Army, Women's, Green, 10JT

8410-01-415-6993—Slacks, Serge, Army, Women's, Green, 10MT

8410-01-415-6994—Slacks, Serge, Army, Women's, Green, 12WP

8410-01-415-6995—Slacks, Serge, Army, Women's, Green, 12JT

8410-01-415-6996—Slacks, Serge, Army, Women's, Green, 14WP

8410-01-415-6997—Slacks, Serge, Army, Women's, Green, 14JR

8410-01-415-6998—Slacks, Serge, Army, Women's, Green, 14JP

8410-01-415-6999—Slacks, Serge, Army, Women's, Green, 14MR

8410-01-415-7000—Slacks, Serge, Army, Women's, Green, 14WR

8410-01-415-7001—Slacks, Serge, Army, Women's, Green, 14WT

8410-01-415-7007—Slacks, Serge, Army, Women's, Green, 16JP

8410-01-415-7008—Slacks, Serge, Army, Women's, Green, 16WR

8410-01-415-7009—Slacks, Serge, Army, Women's, Green, 16MR

8410-01-415-7010—Slacks, Serge, Army, Women's, Green, 18WR

8410-01-415-7011—Slacks, Serge, Army, Women's, Green, 18MR

8410-01-415-7012—Slacks, Serge, Army, Women's, Green, 14MT

8410-01-415-7013—Slacks, Serge, Army, Women's, Green, 16WT

8410-01-415-7014—Slacks, Serge, Army, Women's, Green, 16MP

8410-01-415-7015—Slacks, Serge, Army, Women's, Green, 16MT

8410-01-415-7016—Slacks, Serge, Army, Women's, Green, 20MR

8410-01-415-7017—Slacks, Serge, Army, Women's, Green, 14JT

8410-01-415-7018—Slacks, Serge, Army, Women's, Green, 26MR

8410-01-415-7019—Slacks, Serge, Army, Women's, Green, 18MT

8410-01-415-7021—Slacks, Serge, Army, Women's, Green, 12MR

8410-01-415-7022—Slacks, Serge, Army, Women's, Green, 16JR

8410-01-415-7024—Slacks, Serge, Army, Women's, Green, 16JR

8410-01-415-7025—Slacks, Serge, Army, Women's, Green, 22MR

8410-01-415-7026—Slacks, Serge, Army, Women's, Green, 24MR

8410-01-415-7028—Slacks, Serge, Army, Women's, Green, 12JR

8410-01-415-7029—Slacks, Serge, Army, Women's, Green, 12WR

8410-01-415-7030—Slacks, Serge, Army, Women's, Green, 16JT

8410-01-415-8446—Slacks, Serge, Army, Women's, Green, 10WT

8410-01-415-8450—Slacks, Serge, Army, Women's, Green, 12JP

8410-01-415-8453—Slacks, Serge, Army, Women's, Green, 12MT

8410-01-415-8455—Slacks, Serge, Army, Women's, Green, 12WT

8410-01-415-8457—Slacks, Serge, Army, Women's, Green, 14MP

8410-01-415-8460—Slacks, Serge, Army, Women's, Green, 16WP

8410-01-415-8572—Slacks, Serge, Army, Women's, Green, 10JP

8410-01-415-8573—Slacks, Serge, Army, Women's, Green, 10WP

8410-01-455-5486—Slacks, Serge, Army, Women's, Green, 4MP

8410-01-455-5488—Slacks, Serge, Army, Women's, Green, 6MP

8410-01-455-5490—Slacks, Serge, Army, Women's, Green, 6WP

8410-01-455-5494—Slacks, Serge, Army, Women's, Green, 8MP

8410-01-455-5496—Slacks, Serge, Army, Women's, Green, 8WP

8410-01-455-5500—Slacks, Serge, Army, Women's, Green, 20WR

Mandatory Source(s) of Supply: VGS, Inc., Cleveland, OH

Contracting Activity: Defense Logistics Agency Troop Support

Barry S. Lineback,
Director, Business Operations.

[FR Doc. 2016-31721 Filed 12-29-16; 8:45 am]

BILLING CODE 6353-01-P